DEPARTMENT OF THE INTERIOR

Fish and Wildlife Service

[FWS-R3-ES-2008-N0347; 30120-1113-0000-F5]

Endangered and Threatened Species; Permits

AGENCY: Fish and Wildlife Service, Interior.

ACTION: Notice of issuance of permits.

SUMMARY: U.S. Fish and Wildlife Service (Service) has taken the following action(s) with regard to incidental take and recovery permits applications received under the authority of section 10 of the Endangered Species Act, as amended.

FOR FURTHER INFORMATION CONTACT: Additional information on the permits may be requested by contacting Mr. Peter Fasbender, at (612) 713-5343, or peter_fasbender@fws.gov.

SUPPLEMENTARY INFORMATION: Each permit listed below was issued only after it was determined that it was applied for in good faith; that by granting the permit would not be to the disadvantage of the listed species; and that terms and conditions of the permit were consistent with purposes and policy set forth in the Endangered Species Act of 1973, as amended. (16 U.S.C. 1531 et seq.).

Applicant name | Permit No. | Date issued
AQUATIC SYSTEMS, INC | 133151 | 3/21/2008
BERNARDIN—LOCHMUELLER & ASSOCIATES | 179711 | 6/30/2008
BHE ENVIRONMENTAL, INC | 809227-19 | 2/4/2008
BIDART-BOUZAT, MARIA GABRIELA | 175859 | 5/23/2008
BRITZKE, ERIC R | 023666-2 | 4/23/2008
BRZYSKI, JESSICA R | 160179-2 | 5/13/2008
BURKE, THERESA SYDNEY | 184740 | 7/30/2008
CARTER, TIMOTHY C | 182059 | 5/6/2008
CENTER FOR BIODIVERSITY | 006012-6 | 4/22/2008
CHICAGO BOTANIC GARDENS | 133291 | 4/21/2008
CIVIL AND ENVIRONMENTAL CONSULTANTS, INC | 118259-1 | 5/8/2008
CORPS OF ENGINEERS, ST PAUL DISTRICT | 003379 | 4/21/2008
CUTHBERT, FRANCESCA J | 125333-2 | 5/8/2008
DAVEY RESOURCE GROUP | 085017 | 4/30/2008
DETROIT ZOOLOGICAL SOCIETY | 144832-1 | 6/30/2008
DUNLAP, KATHLEEN A | 191225 | 11/28/2008
ECOLOGICAL SPECIALTIES LLC | 128263-1 | 3/24/2008
ENVIRONMENTAL SOLUTIONS AND INNOVATIONS, INC | 023664-18 | 5/23/2008
ENVIROSCIENCE, INC | 130900 | 6/29/2008
EWERT, DAVID N | 120256 | 4/19/2008
FOREST PRESERVE DISTRICT OF DUPAGE COUNTY | 194651 | 9/26/2008
HAMM, CHRISTOPHER ALAN | 175852 | 5/8/2008
HARVEY, MICHAEL J | 130493 | 4/21/2008
HOCKING COLLEGE | 187501 | 11/24/2008
HOGGARTH, MICHAEL A | 194099 | 11/25/2008
ILLINOIS NATURAL HISTORY SURVEY | 182436 | 6/30/2008
ILLINOIS STATE MUSEUM | 842313-15 | 6/17/2008
LEWIS ENVIRONMENTAL CONSULTING | 181256 | 4/22/2008
MACALESTER COLLEGE | 089872 | 5/16/2008
MAINSTREAM COMMERCIAL DIVERS, INC | 193614 | 11/28/2008
MCCLANAHAN, ROD DANIEL | 174386 | 5/12/2008
MCCLANE, M. BRENT | 164072 | 4/25/2008
METROPOLITAN PARK DISTRICT OF THE TOLEDO AREA | 174388 | 5/22/2008
MICHIGAN NATURAL FEATURES INVENTORY | 174564-1 | 6/20/2008
MISSOURI DEPARTMENT OF CONSERVATION | 120259-1 | 4/11/2008
NATURAL RESOURCES RESEARCH INSTITUTE | 118421-1 | 1/15/2008
OWENS, NICHOLAS L | 182430 | 7/7/2008
ROBBINS, LYNN W | 840524-3 | 5/12/2008
SANDERS ENVIRONMENTAL INC | 179707 | 7/7/2008
SHAWNEE NATIONAL FOREST | 131911-1 | 5/12/2008
SMITHSONIAN INSTITUTION | 125546-2 | 4/14/2008
ST. LOUIS ZOO | 135297 | 4/25/2008
STANTEC CONSULTING SERVICES | 152002-1 | 5/23/2008
STANTEC CONSULTING SERVICES INC | 128304-5 | 4/21/2008
STANTEC CONSULTING SERVICES, INC | 174547 | 5/12/2008
THE NATURE CONSERVANCY | 838715 | 11/28/2008
THE OHIO DEPARTMENT OF TRANSPORTATION | 160235-1 | 5/27/2008
THIRD ROCK CONSULTANTS, LLC | 049738-3 | 3/19/2008
TIMPONE, JOHN CHARLES | 120231 | 5/5/2008
TOMASI, THOMAS E | 195082 | 11/21/2008
U.S. FISH AND WILDLIFE SERVICE | 163772 | 4/25/2008
U.S. FOREST SERVICE | 192348 | 11/24/2008
UNIVERSITY OF ILLINOIS AT CHICAGO | 175862 | 5/19/2008
USDA FOREST SERVICE | 127643 | 5/16/2008
VANDE KOPPLE, BOB | 135267-1 | 10/14/2008
VOLK FIELD—CRTC—ANG | 101150 | 4/25/2008
WATTERS, GEORGE THOMAS | 088720-3 | 5/29/2008

Authority: The authority for this notice is the Endangered Species Act of 1973, as amended. (16 U.S.C. 1531 et seq.)

Dated: December 30, 2008.
Lynn M. Lewis,
Assistant Regional Director, Ecological Services, Midwest Region.

[FR Doc. E9-1386 Filed 1-22-09; 8:45 am]

BILLING CODE 4310-55-P